FEDERAL COMMUNICATIONS COMMISSION

[FR ID: 214885]

Privacy Act of 1974; System of Records

AGENCY: Federal Communications Commission.

ACTION: Notice of a modified system of records.

SUMMARY: The Federal Communications Commission (FCC or Commission or Agency) is modifying a system of records, FCC/WCB-3, Affordable Connectivity Program, subject to the Privacy Act of 1974, as amended. This action is necessary to meet the requirements of the Privacy Act to publish in the Federal Register notice of the existence and character of records maintained by the agency. The Affordable Connectivity Program (“ACP”), the successor to the Commission's Emergency Broadband Benefit Program, provides discounts for broadband internet access service (“BIAS”) to qualifying households. A household may qualify for the ACP if an individual in the household has applied for and has been approved to receive benefits under the free and reduced price lunch program, receives assistance through the special supplemental nutritional program for women, infants, and children (“WIC”), receives a Pell Grant, qualifies for the Lifeline program, meets certain income requirements, or qualifies for a low-income program offered by internet service providers. The ACP is administered by the Universal Service Administrative Company (USAC) under the direction of the Commission and, by delegation, of the Commission's Wireline Competition Bureau (WCB). This system of records contains information about individual ACP applicants and participants, providers' claims and certifying officers, and providers' enrollment representatives.

DATES: This modified system of records will become effective on April 19, 2024. Written comments on the routine uses are due by May 20, 2024. The routine uses in this action will become effective on May 20, 2024 unless comments are received that require a contrary determination.

ADDRESSES: Send comments to Brendan McTaggart, Federal Communications Commission (FCC), 45 L Street NE, Washington, DC 20554, or to privacy@fcc.gov.

FOR FURTHER INFORMATION CONTACT: Brendan McTaggart, (202) 418-1738, or privacy@fcc.gov.

SUPPLEMENTARY INFORMATION: This notice modifies the FCC/WCB-3 system of records as a result of necessary changes and updates. The substantive changes and modifications to the previously published version of the FCC/WCB-3 system of records include:

1. Updating the Categories of Records to include identifying numbers assigned by USAC to applicants and subscribers such as “Application ID,” “Eligibility Check ID” or “eligibility ID” numbers and to accommodate FCC implementation of the Safe Connections Act, which, among other things, designates the Lifeline program to provide emergency communications support to survivors of domestic violence;

2. Adding one new routine use (listed by the routine use number provided in this notice): (2) Application, Enrollment, and Recertification, which permits disclosure of records to the individual to whom those records pertain in order to facilitate the application, enrollment, or recertification processes;

3. Updating and/or revising language in the following routine uses (listed by the routine use number provided in this notice): (4) Federal, State, and Local Agencies, Tribal Nations and Agencies, and Other Authorized Government Entities; (5) Social Service Agencies, Housing Agencies, and Other Approved Third Parties; (12) Law Enforcement and Investigation; and (18) Non-Federal Personnel (formerly named “Contract Services, Grants, or Cooperative Agreements”);

4. Updating the SORN to include the National Archives and Records Administration (NARA) Records Schedule DAA-0173-2021-0022, Emergency Broadband Benefit Program (EBB Program)/Affordable Connectivity Program (ACP).

SYSTEM NAME AND NUMBER:

FCC/WCB-3, Affordable Connectivity Program.

SECURITY CLASSIFICATION:

Unclassified.

SYSTEM LOCATION:

Universal Service Administrative Company (USAC), 700 12th Street NW, Suite 900, Washington, DC 20005; and Wireline Competition Bureau (WCB), Federal Communications Commission (FCC), 45 L Street NE, Washington, DC 20554.

SYSTEM MANAGER(S):

USAC administers the ACP for the FCC. Address inquiries to the Universal Service Administrative Company (USAC), 700 12th Street NW, Suite 900, Washington, DC 20005; or Wireline Competition Bureau (WCB), 45 L Street NE, Washington, DC 20554.

AUTHORITY FOR MAINTENANCE OF THE SYSTEM:

47 U.S.C. 151-154, 201-205, 214, 403; Consolidated Appropriations Act, 2021, Public Law 116-260 sec. 904; Infrastructure Investment and Jobs Act, Public Law 117-58 secs. 60501 et seq.; 47 CFR 54.400, 54.401, 54.404, 54.407, 54.409, 54.410, 54.417, 54.419, 54.420, 54.1800-54.1814.

PURPOSE(S) OF THE SYSTEM:

This system of records is maintained for use in determining whether a member of a household meets the eligibility criteria to qualify for and/or recertify for a discount on the cost of internet service and a subsidy for low-cost devices such as computers and tablets; ensuring benefits are not duplicated; dispute resolution regarding eligibility for the ACP; customer surveys and program notifications; audit; verification of a provider's representative identity; and statistical studies.

CATEGORIES OF INDIVIDUALS COVERED BY THE SYSTEM:

The categories of individuals in this system include, but are not limited to, those individuals who have applied for the ACP; are individuals currently receiving ACP benefits; are individuals who enable another individual to qualify for benefits, including veterans or their beneficiaries; are minors whose status qualifies a household for benefits; are individuals who have received benefits under the Lifeline Program, including survivors, as that term is defined in the Safe Connections Act (SCA) and FCC regulations or orders, receiving emergency communications support; or are individuals acting on behalf of a participating provider as enrollment representatives who have enrolled or verified the eligibility of a household in the ACP.

CATEGORIES OF RECORDS IN THE SYSTEM:

The categories of records in the system include an applicant's first and last name; email address; residential address; information on whether the individual resides on Tribal lands or certain high-cost areas; information on whether the address is temporary and/or descriptive and whether it includes coordinates; mailing address (if different); address based on geographic coordinates (geocoding); internet Protocol (IP) address; date of birth; last four digits of social security number, full Tribal identification number, or identification number assigned by the Veterans Administration; telephone number; full name of the qualifying person (if different from the individual applicant); qualifying person's date of birth; qualifying person's email address; qualifying person's residential address; qualifying person's mailing address; the last four digits of the qualifying person's social security number, their full Tribal identification number, or identification number assigned by the Veterans Administration; information on whether the qualifying person resides on Tribal lands or certain high cost areas; full name of the veteran (if different from the individual applicant and qualifying person); veteran's date of birth (if different from the individual applicant and qualifying person); the veteran's identification number assigned by the Veterans Administration; veteran's email address; the veteran's residential address (if different from the individual applicant and qualifying person); the veteran's mailing address; means of qualification for the ACP (i.e., participation in Lifeline (including survivors of domestic violence receiving emergency communications support, whose eligibility records include documentation related to the submission of a legitimate line separation request to a telecommunications provider and documentation of financial hardship), receipt of a Pell Grant, qualification for Federal nutrition programs, etc.); documents demonstrating eligibility; ACP subscriber identification number; ACP application number; identifying numbers assigned by USAC, such as Application ID, Eligibility Check ID, or eligibility ID numbers; security question; answer to security question; user name; password; agent identification information (if an agent is assisting in completing the application); individual applicant's eligibility certifications; individual applicant's signature and date of application; ACP service initiation date and termination date; amount of discount received; and amount of device benefit received.

For participating provider enrollment representatives who register to access the National Verifier or National Lifeline Accountability Database the following information may be collected: first and last name, date of birth, the last four digits of his or her social security number, email address, and address, or other identity proof documentation.

RECORD SOURCE CATEGORIES:

Participating providers and their registered enrollment representatives; individuals applying on behalf of a household; schools; Lifeline databases; and State, Federal, Local and Tribal Government databases; and third-party identity verifiers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. Program Management—To USAC employees to conduct official duties associated with the management, operation, and oversight of the ACP, the National Lifeline Accountability Database (NLAD), the National Verifier, and the Representative Accountability Database (RAD), as directed by the Commission.

2. Application, Enrollment, and Recertification—To facilitate the ACP application, enrollment, or recertification processes, records from this system may be disclosed to the individual who originally submitted the records, to the individual to whom the records pertain, or to an authorized representative, entity or organization supporting the individual in the application, enrollment, or recertification process.

3. Third Party Contractors—To an employee of a third-party contractor engaged by USAC or a participating provider, or to a subcontractor engaged by a third-party contractor engaged by USAC, to, among other things, develop the ACP Eligibility Database, perform and review eligibility evaluations where the National Verifier conducts such processes for purposes of performing manual eligibility verification (when needed), conduct the eligibility verification or recertification process, run call center and email support operations, assist in dispute resolution, and develop, test, and operate the database system and network.

4. Federal, State, and Local Agencies, Tribal Nations and Agencies, and Other Authorized Government Entities—For purposes of (a) eligibility verification and recertification, including through a computer matching program, (b) providing enrollment and other selected reports, or (c) comparing information contained in NLAD and ACP eligibility, to designated Tribal Nations; designated Federal, State, Local, and Tribal agencies, including public utility commissions and departments of health and human services; and other authorized governmental entities that share data with USAC or the FCC.

5. Social Service Agencies, Housing Agencies, and Other Approved Third Parties—To social service or housing agencies and other third parties (including nonprofit organizations) that have been approved by the FCC or USAC for purposes of assisting individuals in applying for and recertifying for the ACP.

6. Tribal Nations—To Tribal Nations for purposes of assisting individuals in applying for and recertifying for the ACP.

7. Service Providers—To broadband providers, and their registered representatives, in order to confirm an individual's eligibility, complete benefit transfer requests, facilitate the provision of service, complete de-enrollments, allow for the provider to receive reimbursement through the ACP, to provide information to the relevant provider about a registered enrollment representative whose account has been disabled for cause, and provide enrollment and other selected reports.

8. Other Federal Program Eligibility—To disclose an individual's ACP participation status to a Federal agency or contractor, including through a computer matching program, when a Federal program administered by the agency or its contractor uses qualification for the ACP as an eligibility criterion.

9. FCC Enforcement Actions—When a record in this system involves an informal complaint filed alleging a violation of the Communications Act of 1934, as amended, or FCC regulations or orders (FCC Rules and Regulations) by an applicant, licensee, certified or regulated entity, or an unlicensed person or entity, the complaint may be provided to the alleged violator for a response. Where a complainant in filing his or her complaint explicitly requests confidentiality of his or her name from public disclosure, the Commission will endeavor to protect such information from public disclosure. Complaints that contain requests for confidentiality may be dismissed if the Commission determines that the request impedes the Commission's ability to investigate and/or resolve the complaint.

10. Congressional Inquiries—To provide information to a Congressional office from the record of an individual in response to an inquiry from that Congressional office made at the written request of that individual.

11. Government-Wide Program Management and Oversight—To the Department of Justice (DOJ) to obtain that department's advice regarding disclosure obligations under the Freedom of Information Act (FOIA); or the Office of Management and Budget (OMB) to obtain that office's advice regarding obligations under the Privacy Act.

12. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal (including the Internal Revenue Service to investigate income eligibility verification), State, local, Tribal, international, or multinational agencies, or a component of such an agency, responsible for investigating, prosecuting, enforcing, or implementing a statute, rule, regulation, order, or other compulsory obligation.

13. Litigation—To disclose the records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

14. Adjudication—To disclose the records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

15. Breach Notification—To appropriate agencies, entities (including USAC), and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

16. Assistance to Federal Agencies and Entities Related to Breaches—To another Federal agency or Federal entity or USAC, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

17. Prevention of Fraud, Waste, and Abuse Disclosure—To Federal agencies, non-Federal entities, their employees, and agents (including contractors, their agents or employees; employees or contractors of the agents or designated agents); or contractors, their employees or agents with whom the FCC or USAC has a contract, service agreement, cooperative agreement, or computer matching agreement for the purpose of: (1) detection, prevention, and recovery of improper payments; (2) detection and prevention of fraud, waste, and abuse in Federal programs administered by a Federal agency or non-Federal entity; (3) detection of fraud, waste, and abuse by individuals in their operations and programs, but only to the extent that the information shared is necessary and relevant to verify pre-award and prepayment requirements prior to the release of Federal funds, prevent and recover improper payments for services rendered under programs of the FCC or of those Federal agencies and non-Federal entities to which the FCC or USAC provides information under this routine use.

18. Non-Federal Personnel—To disclose information to non-Federal personnel, including FCC or USAC contractors, other vendors (e.g., identity verification services), grantees, or volunteers who have been engaged to assist the FCC or USAC in the performance of a contract service, grant, cooperative agreement, or other activity related to this system of records that has not been otherwise identified in this Notice and who need to have access to the records in order to perform their activity.

POLICIES AND PRACTICES FOR STORAGE OF RECORDS:

The information pertaining to the ACP includes electronic records, files, data, paper documents, records, and may include audio recordings of calls. Records are maintained in secure, limited access areas. Physical entry by unauthorized persons is restricted through use of locks, passwords, and other security measures. Both USAC and its contractors will jointly manage the electronic data housed at USAC and at the contractors' locations. Paper documents and other physical records (i.e., tapes, compact discs, etc.) will be kept in locked, controlled access areas. Paper documents submitted by applicants to the ACP and provider representatives will be digitized, and paper copies will be immediately destroyed after digitization.

POLICIES AND PRACTICES FOR RETRIEVAL OF RECORDS:

Information in the ACP system of records may be retrieved by various identifiers, including, but not limited to the individual's name, last four digits of the social security number, Tribal identification number, identification number assigned by the Veterans Administration, date of birth, email address, phone number, address, and ACP subscriber identification number.

POLICIES AND PRACTICES FOR RETENTION AND DISPOSAL OF RECORDS:

The information in this system is maintained and disposed of in accordance with the National Archives and Records Administration (NARA) Records Schedule DAA-0173-2021-0022, Emergency Broadband Benefit Program (EBB Program)/Affordable Connectivity Program (ACP).

ADMINISTRATIVE, TECHNICAL, AND PHYSICAL SAFEGUARDS:

The electronic records, data, and files are maintained in the FCC and the USAC computer network databases, which are protected by the FCC's and USAC's privacy safeguards, a comprehensive and dynamic set of IT safety and security protocols and features that are designed to meet all Federal IT privacy standards, including those required by OMB, the National Institute of Standard and Technology (NIST) and the Federal Information Security Modernization Act of 2014 (FISMA). In addition, access to the electronic files is restricted to authorized USAC and contractors' supervisors and staff and to the FCC's supervisors and staff in WCB and to the IT contractors who maintain these computer databases. Other FCC employees and contractors may be granted access only on a “need-to-know” basis. In addition, data in the network servers for both USAC and its contractors will be routinely backed-up. The servers will be stored in secured environments to protect the data. The paper documents and files are maintained in file cabinets in USAC and the contractors' office suites. The file cabinets are locked when not in use and at the end of the business day. Access to these files is restricted to authorized USAC and its contractors' staffs.

RECORD ACCESS PROCEDURES:

Individuals wishing to request access to and/or amendment of records about themselves should follow the Notification Procedures below.

CONTESTING RECORD PROCEDURES:

Individuals wishing to request an amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to the records (47 CFR part 0, subpart E).

EXEMPTIONS PROMULGATED FOR THE SYSTEM:

None.

HISTORY:

86 FR 71494 (Dec. 16, 2021).

Federal Communications Commission.
Marlene Dortch,
Secretary.

[FR Doc. 2024-08375 Filed 4-18-24; 8:45 am]

BILLING CODE 6712-01-P